DEPARTMENT OF ENERGY

Federal Energy Regulatory Commission

Notice of Applications Accepted for Filing, Soliciting Comments, Protests and Motions To Intervene

| Project Nos.
Northbrook Wisconsin, LLC | 2536-093
City of Norway, Michigan | 2720-067
City of Crystal Falls, Michigan | 11402-076
Wisconsin Electric Power Company | 2486-087

Take notice that the following hydroelectric applications have been filed with the Commission and are available for public inspection:

a. Type of Proceeding: Extension of License Terms.

b. Project Nos.: P-2536-093, P-2720-067, P-11402-076, and P-2486-087.

c. Dates Filed: June 13, 2019 and July 16, 2019.

d. Licensees: Northbrook Wisconsin, LLC (P-2536-093), City of Norway, Michigan (P-2720-067), City of Crystal Falls, Michigan (P-11402-076), and Wisconsin Electric Power Company (P-2486-087).

e. Names and Locations of the Projects: The Little Quinnesec Falls (P-2536) and Sturgeon Falls (P-2720) hydroelectric projects located on the Menominee River, in Dickinson County, Michigan and Marinette County, Wisconsin. The Crystal Falls Hydroelectric Project No. 11402 located on the Paint River, in Iron County, Michigan and the Pine Hydroelectric Project No. 2486 located on the Pine River, in Florence County, Wisconsin.

f. Filed Pursuant to: Federal Power Act, 16 U.S.C. 791a-825r.

g. Licensees Contact Information: (P-2536-093) Mr. Michael Scarzello, Regulatory Director, Eagle Creek Renewable Energy, 116 State Street, P.O. Box 167, Neshkoro, WI 54960, (973) 998-8403, michael.scarzello@eaglecreekre.com; (P-2720-067) Mr. Ray Anderson, City Manager, 915 Main Street, P.O. Box 99, Norway, MI 49870, (906) 563-9961, Ext. 205; (P-11402-076) Mr. David Graff, Electric Department Supervisor, City of Crystal Falls Electrical Department, 401 Superior Avenue, Crystal Falls, MI 49920, (906) 284-3394; (P-2486-087) Mr. Mike Grisar, Principal Environmental Consultant, WEC Business Services LLC, 231 West Michigan Street, Milwaukee, WI 53203, (414) 221-5426, mike.grisar@wecenergygroup.com.

h. FERC Contact: Mr. Ashish Desai, (202) 502-8370, Ashish.Desai@ferc.gov.

i. Deadline for filing comments, motions to intervene and protests is 30 days from the issuance date of this notice by the Commission. The Commission strongly encourages electronic filing. Please file motions to intervene, protests, comments, and recommendations, using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number, for example, “P-2536-093”.

Note that you can file comments, motions to intervene, and protects in response to all of the projects identified in the notice together (i.e., one response for all projects) or you can respond to each project individually, or do a combination of both.

j. Description of Proceeding: Northbrook Wisconsin, LLC, the City of Norway, Michigan, and the City of Crystal Falls, Wisconsin on June 13, 2019 and the Wisconsin Electric Power Company on July 16, 2019, filed applications to extend the license terms for four projects located on the Menominee River and two of its tributaries, the Paint and Pine rivers. The four projects include the Little Quinnesec Falls Project No. 2536 licensed to Northbrook Wisconsin, LLC, the Sturgeon Falls Project No. 2720 licensed to the City of Norway, Michigan, the Crystal Falls Project No. 11402 licensed to the City of Crystal Falls, Wisconsin, and the Pine Project No. 2486 licensed to Wisconsin Electric Power Company.

The licensees request that the license terms for the four projects be extended to July 31, 2040 to align the license expiration dates with nine other project located on the upper Menominee River basin. Currently, the 40-year license for the Little Quinnesec Falls Project expires on April 30, 2037 and the 30-year licenses for the Crystal Falls, Pine, and Sturgeon Falls projects correspondingly expire on September 30, 2025, November 30, 2025, and December 31, 2034. The licensees state that aligning the license expiration dates of the projects would allow for a comprehensive study and analysis of the upper Menominee River basin projects, expedite the consultation process for all parties, and maximize the consideration of cumulative and environmental impacts in the related proceedings at relicensing.

k. This notice is available for review and reproduction at the Commission in the Public Reference Room, Room 2A, 888 First Street NE, Washington, DC 20426. The filing may also be viewed on the Commission's website at http://www.ferc.gov/docs-filing/elibrary.asp. Enter the Docket number (for example, P-2536-093) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

l. Individuals desiring to be included on the Commission's mailing list should so indicate by writing to the Secretary of the Commission.

m. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

n. Filing and Service of Responsive Documents: Any filing must (1) bear in all capital letters the title COMMENTS, PROTEST, or MOTION TO INTERVENE as applicable; (2) set forth in the heading the name of the applicant(s) and the project number(s) of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the requests to extend the license terms. Agencies may obtain copies of the applications directly from the applicants. A copy of any protest or motion to intervene must be served upon each representative of the applicant specified in the particular application. If an intervener files comments or documents with the Commission relating to the merits of an issue that may affect the responsibilities of a particular resource agency, they must also serve a copy of the document on that resource agency. A copy of all other filings in reference to these applications must be accompanied by proof of service on all persons listed in the service list prepared by the Commission in this proceeding, in accordance with 18 CFR 4.34(b) and 385.2010.

Dated: October 4, 2019.
Nathaniel J. Davis, Sr.,
Deputy Secretary.

[FR Doc. 2019-22175 Filed 10-9-19; 8:45 am]

BILLING CODE 6717-01-P